DEPARTMENT OF ENERGY

Federal Energy Regulatory Commission

[Project No. 2808-017]

KEI (Maine) Power Management (III) LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: P-2808-017.

c. Date filed: January 31, 2017.

d. Applicant: KEI (Maine) Power Management (III) LLC.

e. Name of Project: Lower Barker Hydroelectric Project.

f. Location: On the Little Androscoggin River, in the City of Auburn, Androscoggin County, Maine. The project does not occupy lands of the United States.

g. Filed Pursuant to: Federal Power Act 16 U.S.C. 791(a)-825(r).

h. Applicant Contact: Lewis Loon, Operations and Maintenance Manager, 37 Alfred Plourde Parkway, Suite 2, Lewiston, Maine 04240; (207) 786-8834.

i. FERC Contact: Karen Sughrue at (202) 502-8556 or email at Karen.Sughrue@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 31, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2808-017.

m. The application is not ready for environmental analysis at this time.

n. The Lower Barker Project consists of the following existing facilities: (1) A 232-foot-long, 30-foot-high concrete dam with a 125-foot-long spillway with flashboards, a 46-foot-long non-overflow section with two waste gates along the left buttress, and a 61-foot-long non-overflow section with seven stop-logs adjacent to the intake canal; (2) a 16.5-acre reservoir with a storage capacity of 150-acre-feet; (3) a 60-foot-long, 20-foot-wide, 9.6-foot-deep intake canal on the right bank with seven stop-logs; (4) a 35-foot-long, 20-foot-wide gatehouse containing a single gate and fitted with trash racks; (5) a buried 650-foot-long, 10-foot-wide, 8-foot-high concrete penstock; (6) a 50-foot-long, 25-foot-wide concrete powerhouse containing a single semi-Kaplan-type turbine and generating unit with a rated capacity of 1.5 megawatts; (7) a tailrace; (8) a 250-foot-long, 4.2 kilovolt underground power line; (9) a substation; and (10) appurtenant facilities. The project produces an average of 5,087 megawatt-hours annually.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary Hydro Licensing Schedule. Revisions to the schedule will be made as appropriate.

Issue Acceptance or Deficiency/Additional Information Letter | April 2017.
Issue Scoping Document 1 for comment | June 2017.
Hold Scoping Meeting | July 2017.
Request Additional Information (if necessary) | July 2017.
Issue Scoping Document 2 (if necessary) | August 2017.
Issue notice of ready for environmental analysis | September 2017.
Notice of the availability of the draft NEPA document | March 2018.
Initiate the 10(j) process | April 2018.
Notice of the availability of the final NEPA document | July 2018.

Final amendments to the application must be filed with the Commission no later than 30 days from the issuance date of the notice of ready for environmental analysis.

Dated: February 3, 2017.
Kimberly D. Bose,
Secretary.

[FR Doc. 2017-02950 Filed 2-13-17; 8:45 am]

BILLING CODE 6717-01-P